ENVIRONMENTAL PROTECTION AGENCY

[EPA-HQ-OPPT-2013-0054; FRL-9383-9]

Certain New Chemicals; Receipt and Status Information

AGENCY: Environmental Protection Agency (EPA).

ACTION: Notice.

SUMMARY: The Toxic Substances Control Act (TSCA) requires any person who intends to manufacture (defined by statute to include import) a new chemical (i.e., a chemical not on the TSCA Chemical Substances Inventory (TSCA Inventory)) to notify EPA and comply with the statutory provisions pertaining to the manufacture of new chemicals. In addition under TSCA, EPA is required to publish in the Federal Register a notice of receipt of a premanufacture notice (PMN) or an application for a test marketing exemption (TME), and to publish in the Federal Register periodic status reports on the new chemicals under review and the receipt of notices of commencement (NOC) to manufacture those chemicals. This document, which covers the period from February 11, 2013 to March 8, 2013, and provides the required notice and status report, consists of the PMNs and TMEs, both pending or expired, and the NOC to manufacture a new chemical that the Agency has received under TSCA section 5 during this time period.

DATES: Comments identified by the specific PMN number or TME number, must be received on or before June 14, 2013.

ADDRESSES: Submit your comments, identified by docket identification (ID) number EPA-HQ-OPPT-2013-0054, and the specific PMN number or TME number for the chemical related to your comment, by one of the following methods:

• Federal eRulemaking Portal: http://www.regulations.gov. Follow the online instructions for submitting comments.

• Mail: Document Control Office (7407M), Office of Pollution Prevention and Toxics (OPPT), Environmental Protection Agency, 1200 Pennsylvania Ave., NW., Washington, DC 20460-0001.

• Hand Delivery: OPPT Document Control Office (DCO), EPA East Bldg., Rm. 6428, 1201 Constitution Ave., NW., Washington, DC. The DCO is open from 8 a.m. to 4 p.m., Monday through Friday, excluding legal holidays. The telephone number for the DCO is (202) 564-8930. Such deliveries are only accepted during the DCO's normal hours of operation, and special arrangements should be made for deliveries of boxed information.

Instructions: EPA's policy is that all comments received will be included in the docket without change and may be made available online at http://www.regulations.gov, including any personal information provided, unless the comment includes information claimed to be Confidential Business Information (CBI) or other information whose disclosure is restricted by statute. Do not submit information that you consider to be CBI or otherwise protected through regulations.gov or email. The regulations.gov Web site is an “anonymous access” system, which means EPA will not know your identity or contact information unless you provide it in the body of your comment. If you send an email comment directly to EPA without going through regulations.gov, your email address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, will be publicly available only in hard copy. Publicly available docket materials are available electronically at http://www.regulations.gov, or, if only available in hard copy, at the OPPT Docket. The OPPT Docket is located in the EPA Docket Center (EPA/DC) at Rm. 3334, EPA West Bldg., 1301 Constitution Ave. NW., Washington, DC. The EPA/DC Public Reading Room hours of operation are 8:30 a.m. to 4:30 p.m., Monday through Friday, excluding legal holidays. The telephone number of the EPA/DC Public Reading Room is (202) 566-1744, and the telephone number for the OPPT Docket is (202) 566-0280. Docket visitors are required to show photographic identification, pass through a metal detector, and sign the EPA visitor log. All visitor bags are processed through an X-ray machine and subject to search. Visitors will be provided an EPA/DC badge that must be visible at all times in the building and returned upon departure.

FOR FURTHER INFORMATION CONTACT: For technical information contact: Bernice Mudd, Information Management Division (7407M), Office of Pollution Prevention and Toxics, Environmental Protection Agency, 1200 Pennsylvania Ave., NW., Washington, DC 20460-0001; telephone number: (202) 564-8951; fax number: (202) 564-8955; email address: mudd.bernice@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

This action is directed to the public in general. As such, the Agency has not attempted to describe the specific entities that this action may apply to. Although others may be affected, this action applies directly to the submitter of the PMNs addressed in this action.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Why is EPA taking this action?

EPA classifies a chemical substance as either an “existing” chemical or a “new” chemical. Any chemical substance that is not on EPA's TSCA Inventory is classified as a “new chemical,” while those that are on the TSCA Inventory are classified as an “existing chemical.” For more information about the TSCA Inventory go to: http://www.epa.gov/opptintr/newchems/pubs/inventory.htm. Anyone who plans to manufacture or import a new chemical substance for a non-exempt commercial purpose is required by TSCA section 5 to provide EPA with a PMN, before initiating the activity. Section 5(h)(1) of TSCA authorizes EPA to allow persons, upon application, to manufacture (includes import) or process a new chemical substance, or a chemical substance subject to a significant new use rule (SNUR) issued under TSCA section 5(a), for “test marketing” purposes, which is referred to as a test marketing exemption, or TME. For more information about the requirements applicable to a new chemical go to: http://www.epa.gov/oppt/newchems.

Under TSCA sections 5(d)(2) and 5(d)(3), EPA is required to publish in the Federal Register a notice of receipt of a PMN or an application for a TME and to publish in the Federal Register periodic status reports on the new chemicals under review and the receipt of NOCs to manufacture those chemicals. This status report, which covers the period from February 11, 2013 to March 8, 2013, consists of the PMNs and TMEs, both pending or expired, and the NOCs to manufacture a new chemical that the Agency has received under TSCA section 5 during this time period.

III. Receipt and Status Reports

In Table I. of this unit, EPA provides the following information (to the extent that such information is not claimed as CBI) on the PMNs received by EPA during this period: The EPA case number assigned to the PMN, the date the PMN was received by EPA, the projected end date for EPA's review of the PMN, the submitting manufacturer/importer, the potential uses identified by the manufacturer/importer in the PMN, and the chemical identity.

Table I—88 PMNs Received From 2/11/13 to 3/11/13
Case No. | Received date | Projected notice end date | Manufacturer/Importer | Use | Chemical
P-13-0250 | 2/4/2013 | 5/4/2013 | CBI | (G) Pigment additive | (G) Oxiranylpropyl silsesquioxanes hydroxy terminated.
P-13-0251 | 2/4/2013 | 5/4/2013 | CBI | (G) Pigment additive | (G) Aminopropyl silsesquioxanes hydroxy terminated.
P-13-0252 | 2/4/2013 | 5/4/2013 | International Flavors & Fragrances, Inc | (S) Fragrance ingredient for use in fragrances for soaps, detergents, cleaners and other household products | (S) 4,7-Methano-1H-inden-5-ol, octahydro-2,4,5- trimethyl-.
P-13-0253 | 2/4/2013 | 5/4/2013 | Dow Chemical Company | (S) Organic marker for petroleum products | (G) Tritylated ether.
P-13-0254 | 2/4/2013 | 5/4/2013 | Dow Chemical Company | (S) Organic marker for petroleum products | (G) Tritylated ether.
P-13-0255 | 2/4/2013 | 5/4/2013 | Dow Chemical Company | (S) Organic marker for petroleum products | (G) Tritylated ether.
P-13-0256 | 2/4/2013 | 5/4/2013 | Dow Chemical Company | (S) Organic marker for petroleum products | (G) Tritylated ether.
P-13-0257 | 2/4/2013 | 5/4/2013 | Dow Chemical Company | (S) Organic marker for petroleum products | (G) Tritylated ether.
P-13-0258 | 2/4/2013 | 5/4/2013 | Dow Chemical Company | (S) Organic marker for petroleum products | (G) Tritylated ether.
P-13-0259 | 2/5/2013 | 5/5/2013 | CBI | (S) Extreme pressure, anti-wear additive for greases and oils containing the PMN substance and sulfurized isobutylene | (G) Antimony tris(dialkyldithiocarbamate).
P-13-0260 | 2/5/2013 | 5/5/2013 | CBI | (S) Extreme pressure, anti-wear additive for greases and oils containing the PMN substance and process oil; extreme pressure, anti-wear additive for greases and oil containing the PMN substance and sulfurized isobutylene | (G) Zinc bis(dialkyldithiocarbamate).
P-13-0261 | 2/5/2013 | 5/5/2013 | CBI | (G) Destructive use | (G) Organometallic polymerization catalyst.
P-13-0262 | 2/5/2013 | 5/5/2013 | CBI | (S) Coatings additive | (G) Epoxysilane homopolymer.
P-13-0263 | 2/6/2013 | 5/6/2013 | Sika Corporation | (G) Adhesive | (G) Epoxy adduct.
P-13-0264 | 2/6/2013 | 5/6/2013 | CBI | (G) Fragrance material for highly dispersive use | (G) Isomers of aliphatic substituted quinoline.
P-13-0265 | 2/7/2013 | 5/7/2013 | CBI | (G) Ingredient used in coatings | (G) Substituted propenoic acid, alkyl ester, polymer with alkyl propenoate, carbomonocycle, substituted alkyl propenoate, substituted alkyl propenoate, 2-propenoic acid and alkyl carbopolycyclic ester, tert-bu peroxide-initiated, compounds with triethanolamine.
P-13-0266 | 2/7/2013 | 5/7/2013 | CBI | (G) Fire-retardant for polycarbonate | (G) Heteromonocycle, decasubstituted.
P-13-0267 | 2/8/2013 | 5/8/2013 | Croda, Inc. | (G) Polymer additive | (G) Fatty acid amide.
P-13-0268 | 2/8/2013 | 5/8/2013 | CBI | (G) Adhesive formulation additive | (G) Rosin ester cycloadduct.
P-13-0269 | 2/8/2013 | 5/8/2013 | CBI | (G) Polyol component for polyurethane production | (G) Alkoxylated alcohol.
P-13-0270 | 2/11/2013 | 5/11/2013 | Dow Chemical Company | (G) Catalyst component | (G) Aromatic dibenzoate.
P-13-0271 | 2/12/2013 | 5/12/2013 | CBI | (S) Polyurethane prepolymer for binder applications | (G) Aliphatic polyester polyol.
P-13-0272 | 2/12/2013 | 5/12/2013 | CBI | (S) Polyurethane prepolymer for binder applications | (G) Aliphatic polyester polyol.
P-13-0273 | 2/12/2013 | 5/12/2013 | CBI | (S) Polyurethane prepolymer for binder applications | (G) Aliphatic polyester polyol.
P-13-0274 | 2/12/2013 | 5/12/2013 | CBI | (S) Polyurethane prepolymer for binder applications | (G) Aliphatic polyester polyol.
P-13-0275 | 2/12/2013 | 5/12/2013 | CBI | (S) Polyurethane prepolymer for binder applications | (G) Aliphatic polyester polyol.
P-13-0276 | 2/12/2013 | 5/12/2013 | CBI | (S) Polyurethane prepolymer for binder applications | (G) Aliphatic polyester polyol.
P-13-0277 | 2/12/2013 | 5/12/2013 | Scott Bader, Inc. | (G) Fabrication of composite articles | (G) Unsaturated urethane methacrylate.
P-13-0278 | 2/12/2013 | 5/12/2013 | Dow Chemical U.S.A. | (S) Component rigid polyurethane foam for appliances | (G) Reaction of product of benzene dicarboxylic acid, polyether polyol and propylene oxide.
P-13-0279 | 2/12/2013 | 5/12/2013 | CBI | (G) Additive, open, non-dispersive use | (G) Poly(ethylenoxide-co-(2-ethylhexyl)glycidether-co-cresylglycidether).
P-13-0280 | 2/12/2013 | 5/12/2013 | CBI | (G) Additive, open, non-dispersive use | (G) Poly(ethylenoxide-co-(2-ethylhexyl)glycidether-co-cresylglycidether).
P-13-0281 | 2/13/2013 | 5/13/2013 | DIC International (USA), LLC | (G) Sizing agent | (G) Silated polyether type polyurethane resin.
P-13-0282 | 2/13/2013 | 5/13/2013 | DIC International (USA), LLC | (G) A component for the building paint material | (G) Trifluoroethene polymer with, 4-(ethenyloxy)-1-butanol, olefin copolymers and amine.
P-13-0283 | 2/13/2013 | 5/13/2013 | CBI | (G) Additive, open, non-dispersive use | (G) Polyakylene glycol methyl-2-propenoate, polymer with alkyl-substituted 2-propenoate.
P-13-0284 | 2/13/2013 | 5/13/2013 | DIC International (USA), LLC | (G) A component of building paint material | (G) Trifluoroethene polymer with, 4-(ethenyloxy)-1-butanol, ethene, ethoxy- and olefin ethoxy copolymer.
P-13-0285 | 2/15/2013 | 5/15/2013 | CBI | (G) Used in the manufacture of an article | (G) Polyamic acid.
P-13-0286 | 2/14/2013 | 5/14/2013 | CBI | (G) Polyol monomer | (G) Soybean oil polyol.
P-13-0287 | 2/15/2013 | 5/15/2013 | CBI | (G) Curing agent; starting material for curing agent | (G) Cyanoethylated diamine.
P-13-0288 | 2/15/2013 | 5/15/2013 | CBI | (G) Polymer precursor—site limited | (G) Fluorinated diamine.
P-13-0289 | 2/15/2013 | 5/15/2013 | CBI | (G) Additive component to engine lubricants | (G) Alkanoic acid, tetramethylheteromonocycle ester.
P-13-0290 | 2/18/2013 | 5/18/2013 | Infineum USA, L.P. | (G) Component in fuel additive | (G) Copolymer of alkyl methacrylate and substituted amino alkyl methacrylate.
P-13-0291 | 2/18/2013 | 5/18/2013 | CBI | (S) Epoxy curing agent | (G) Formaldehyde, polymer with 2-(chloromethyl)oxirane, cycloaliphatic amine, 4,4'-(1-methylethylidene)bis[phenol] and 2-methylphenol.
P-13-0292 | 2/18/2013 | 5/18/2013 | CBI | (G) Open, non-dispersive | (G) Organophosphorus polymer.
P-13-0293 | 2/18/2013 | 5/18/2013 | Dow Chemical Company | (S) Oilfield demulsifier | (G) Epoxy adduct alkoxylate.
P-13-0294 | 2/18/2013 | 5/18/2013 | CBI | (S) Coatings crosslinker | (S) 1,3-Propanetriol, 2-ethyl-2-(hydroxymethyl)-, polymer with 1,3-diisocyanatomethylbenzene,.alpha.-hydro-.omega.-hydroxypoly[oxy(methyl-1,2-ethanediyl)] and.alpha.,.alppha.',.alpha.-1.
P-13-0295 | 2/19/2013 | 5/19/2013 | CBI | (S) Rheology modifier | (G) Rubber epoxy adduct.
P-13-0296 | 2/19/2013 | 5/19/2013 | CBI | (G) Coatings for textile | (G) Polyurethane dispersion water.
P-13-0297 | 2/19/2013 | 5/19/2013 | Mane, USA | (S) Fragrance ingredient in a consumer product; fragrance in a consumer product; fragrance in a consumer product | (S) 9-Decen-2-one.
P-13-0298 | 2/19/2013 | 5/19/2013 | Cytec Industries, Inc. | (G) Resin for non-dispersive uses | (G) Alkenoic acid, polymer with alkadiene and alkenenitrile, substituted alkyl-terminated, polymers with substituted carbomonocycles, alkoxy-terminated-substituted alkyl-alkadiene polymer, substituted carbomonocycle and halogen substituted carbomonocycle.
P-13-0299 | 2/19/2013 | 5/19/2013 | CBI | (G) Production aid in refinery operations | (G) Furandione derivative reaction products.
P-13-0300 | 2/20/2013 | 5/20/2013 | Henkel Corporation | (S) Site limited isolated intermediate | (S) 4,7-Methano-1H-indene-2,6-dicarboxylic acid, 3a,4,7,7a-tetrahydro-.
P-13-0301 | 2/21/2013 | 5/21/2013 | CBI | (S) Impact modifier for plastics compounding | (G) Acrylate polymer.
P-13-0302 | 2/21/2013 | 5/21/2013 | CBI | (G) Contained use, lighting component | (G) Inorganic rare earth compound.
P-13-0303 | 2/21/2013 | 5/21/2013 | Infineum USA, L.P. | (G) Chemical components for fuel and fuel additives | (G) Substituted phenol formaldehyde polymer.
P-13-0304 | 2/21/2013 | 5/21/2013 | Apollo Chemical | (S) Acid donor for dyeing nylon and nylon containing fabrics | (S) Ethanol, 2,2'-oxybis-,1,1'-diformate.
P-13-0305 | 2/21/2013 | 5/21/2013 | 3M Company—group compliance 3m automotive and chemical markets group | (G) Intermediate | (G) Fluorinated ester.
P-13-0306 | 2/21/2013 | 5/21/2013 | Kimberly-Clark Corporation | (G) Binder for fiber (open, non-dispersive use) | (G) Acrylic copolymer.
P-13-0307 | 2/21/2013 | 5/21/2013 | CBI | (G) Component of manufactured consumer article—contained use | (G) Substituted carbocycle, N-[[[4-[[(4-substituted carbocyclic)amino]sulfonyl]carbocyclic]amino]carbonyl]-4-methyl-.
P-13-0308 | 2/22/2013 | 5/22/2013 | Dow Chemical Company | (S) Frother in mining; intermediate or raw material to manufacture mining frother | (S) 4-Nonanone, 2,6,8-trimethyl-, manufactured of, by-products from, distant residues.
P-13-0309 | 2/22/2013 | 5/22/2013 | Huntsman Corporation | (S) Component of a pigment dispersant blend for inks and coatings | (S) Alcohols, C9-11-branched, ethoxylated propoxylated.
P-13-0310 | 2/22/2013 | 5/22/2013 | CBI | (S) Polymer intermediate | (G) Substituted polyurethane polymer.
P-13-0311 | 2/22/2013 | 5/22/2013 | CBI | (G) An open, non-dispersive use | (G) Styrene maleic acid ester copolymer.
P-13-0312 | 2/25/2013 | 5/25/2013 | CBI | (S) Waterborne acrylic resin for use in coatings | (G) Waterborne acrylic.
P-13-0313 | 2/25/2013 | 5/25/2013 | CBI | (G) Protective coating | (G) 1,3-Isobenzofurandione, 5,5'-[(1-methylethylidene)bis(4,1-phenyleneoxy)]bis, polymer with 3,3'-[1,3-phenylenebis(oxy)]bis[benzenamine,], sulfonylbis[aminophenol] and 3,3'-(1,1,3,3-tetramethyl-1,3-disiloxanediyl)bis[1-propanamine], reaction products with arylamine.
P-13-0314 | 2/26/2013 | 5/26/2013 | Gelest, Inc. | (S) Research; various typical silicone applications, e.g. lubricant additive to paints, waxes | (S) Siloxanes and silicones, di-me, bu group-terminated.
P-13-0315 | 2/27/2013 | 5/27/2013 | CBI | (G) Printing additive | (G) 1,4-Benzenedicarboxylic acid, polymer with substituted-2,5-furandione, carboxylic acid, substituted carbomonocycle ethoxylated, substituted carbomonocycle propoxylated and polyol.
P-13-0316 | 2/27/2013 | 5/27/2013 | CBI | (G) Structural material (open, non-dispersive) | (G) Copolymer of methacryclic acid derivatives.
P-13-0317 | 2/27/2013 | 5/27/2013 | CBI | (G) Additive, open, non-dispersive | (G) Polyether ester.
P-13-0318 | 3/1/2013 | 5/29/2013 | CBI | (G) Industrial feedstock chemical | (G) Glycerides, C14-18, C16-C18 unsaturated, from fermentation.
P-13-0319 | 3/1/2013 | 5/29/2013 | CBI | (G) Industrial feedstock chemical | (G) Glycerides, C14-18, C16-C18 unsaturated, from fermentation.
P-13-0320 | 3/1/2013 | 5/29/2013 | Nippon Kayaku America, Inc. | (S) Insulator for power capacitors | (G) Substituted dicarboxylic acid, polymer with substituted benzenamine and substituted dicarboxylic acid.
P-13-0321 | 2/28/2013 | 5/28/2013 | International Flavors & Fragrances, Inc | (S) Fragrance ingredient for use in fragrances for soaps, detergents, cleaners and other household products | (S) 5H-Cyclopenta[h]quinazoline, 6,7,8,9-tetrahydro-7,7,8,8,9,9-pentamethyl-.
P-13-0322 | 3/5/2013 | 6/2/2013 | CBI | (G) Adhesive | (G) Substituted carboxylic acid, polymer with alkanediol, substituted alkylakane, substituted carbomonocycle and sodium substituted alkyl amino alkanessulfonate (1:1).
P-13-0323 | 3/5/2013 | 6/2/2013 | CBI | (G) Additive for foam applications | (G) Phosphonic acid, [1[(5,5-dialkyl-2-substituted-substituted heteromonocycle]-1-alkyl]-, dialkyl ester.
P-13-0324 | 3/5/2013 | 6/2/2013 | Alberdingk Boley Inc. | (S) Wood coatings; plastics coatings; leather and textile impregnation | (G) Castor oil, dehydrated, polymer with alkyldioic acid, polymer with alkyl diols, hydroxy(hydroxymethyl)akylylpropanoic acid, methylenebis[isocyanatocycloalkane] and alkyl glycol.
P-13-0325 | 3/5/2013 | 6/2/2013 | Alberdingk Boley, Inc. | (S) Wood coatings; plastics coatings; leather and textile impregnation | (G) Castor oil, dehydrated, polymer with di-alkyl carbonate, alkyl diamine, alkyl diol, dihydroxyalkyl carboxylic acid and methylenebis[isocyanatocycloalkane]-, compound with trialkylamine.
P-13-0326 | 3/5/2013 | 6/2/2013 | Alberdingk Boley, Inc. | (S) Wood coatings; plastics coatings; leather and textile impregnation | (G) Castor oil, dehydrated, polymer with alkyl diamine, dihydroxyalkyl carboxylic acid, aromatic azinetriamine, methylenebis [isocyanatocycloalkane]-, compounds with trialkylamine.
P-13-0327 | 3/5/2013 | 6/2/2013 | Alberdingk Boley, Inc. | (S) Wood coatings; plastics coatings; leather and textile impregnation | (G) Castor oil, dehydrated, polymer with alkyldioic acid, alkyldiamine, alkyldiol, dihydroxyalkyl carboxylic acid, methylenebis [isocyanatocyclohexane], alkyl glycol, and polyethylene glycol bis(hydroxymethyl)alkyl me ether, compound with trialkyl amine.
P-13-0328 | 3/5/2013 | 6/2/2013 | CBI | (G) Ingredient used in coatings | (G) Hexanedioic acid, polymer with alkyl diols, 1,3- isobenzofuranedione, aliphatic diisocyanates, hydroxyalkyl substituted propanediol, hydroxyalkylpropanoic acid, compound with (dimethylamino)ethanol.
P-13-0329 | 3/5/2013 | 6/2/2013 | Firmenich Incorporated | (S) Fragrance material | (S) Olive leaf extract.
P-13-0330 | 3/5/2013 | 6/2/2013 | Alberdingk Noley, Inc. | (S) Coating for leather and textiles | (G) Fatty acids, C18, dimers, dialkyl esters, hydrogenated, polymers with alkanedioic acid, 1,3-bis-(isocyanato-1-alkyl)benzene, 3-hydroxy-2-(hydroxymethyl)-2-alkylpropenoic acid, 1,1'-methylenebis [isocyanatocycloalkane], neopentyl glycol and oxepanone compounds with trialkyl amine.
P-13-0331 | 3/6/2013 | 6/3/2013 | Wansheng Material Science (USA) Co., Ltd | (S) Flame retardant | (S) Phosphoric acid, P,P'-(oxydi-2,1-ethanediyl) P, P, P',P”-tetrakis(2-chloro-1-methylethyl) ester.
P-13-0332 | 3/7/2013 | 6/4/2013 | Alberdingk Boley, Inc. | (S) Wood coatings | (G) Propenoic acid ester, polymer with N-(dimethyloxoalkyl)alkylamide, alkyl propenoate and alkyl alkyl propenoate.
P-13-0333 | 3/7/2013 | 6/4/2013 | Alberdingk Boley, Inc. | (S) Wood coatings | (G) Propenoic acid ester, polymer with N-(dimethyloxoalkyl)alkylamide, alkyl propenoate, alkyl alkyl propenoate and alkyl alkyldiyl bis(alkyl propenoate).
P-13-0334 | 3/7/2013 | 6/4/2013 | Alberdingk Boley, Inc. | (S) Wood coatings | (G) Propenoic acid ester, polymer with alkyl propenoate, N-(dimethyloxoalkyl)alkylamide, alkenylbenzene, alkyl propenoate, and alkyl alkyldiyl propenoate.
P-13-0335 | 3/7/2013 | 6/4/2013 | Alberdingk Boley, Inc. | (S) Wood coatings | (G) Propenoic acid ester, polymer with alkyl propenoate, N-(dimethyloxoalkyl)alkylamide, alkenylbenzene and alkyl alkyl propenoate.
P-13-0336 | 3/7/2013 | 6/4/2013 | Mane, USA | (S) Fragrance added to a consumer product; fragrance within a consumer product; fragrance within a consumer product | (S) Acetonitrile, 2-(2,4,4-trimethylcyclopentylidene)-.
P-13-0337 | 2/20/2013 | 5/20/2013 | CBI | (G) Floor care product | (G) Fatty acid phthalate alkyd polymer.

In Table II. of this unit, EPA provides the following information (to the extent that such information is not claimed as CBI) on the TMEs received by EPA during this period: The EPA case number assigned to the TME, the date the TME was received by EPA, the projected end date for EPA's review of the TME, the submitting manufacturer/importer, the potential uses identified by the manufacturer/importer in the TME, and the chemical identity.

Table II-2 TMEs Received From 2/11/13 to 3/08/13
Case No. | Received date | Projected notice end date | Manufacturer/Importer | Use | Chemical
T-13-0008 | 2/19/2013 | 4/4/2013 | Cytec Industries, Inc | (G) Resin for non-dispersive uses | (G) Alkenoic acid, polymer with alkadiene and alkenenitrile, substituted alkyl-terminated, polymers with substituted carbomonocycles, alkoxy-terminated-substituted alkyl-alkadiene polymer, substituted carbomonocycle and halogen subsituted carbo­monocycle.
T-13-0009 | 2/19/2013 | 4/4/2013 | CBI | (G) Production aid in refinery operations | (G) Furandione derivative reaction products.

In Table III. of this unit, EPA provides the following information (to the extent that such information is not claimed as CBI) on the NOCs received by EPA during this period: The EPA case number assigned to the NOC, the date the NOC was received by EPA, the projected end date for EPA's review of the NOC, and chemical identity.

Table III—50 NOCs Received From 2/11/13 to 3/08/13
Case No. | Received date | Commencement notice end date | Chemical
P-06-0784 | 2/21/2013 | 2/1/2013 | (S) 1,4-Benzenedicarboxylic acid, dibutyl ester.
P-07-0289 | 3/1/2013 | 4/14/2008 | (G) Isocyanate-terminated polyether polyester polyurethane.
P-09-0369 | 2/25/2013 | 2/22/2013 | (G) Acrylated acrylic copolymer.
P-09-0413 | 2/15/2013 | 1/26/2013 | (G) Formaldehyde, reaction products with alkylphenol, alkylamine, phenol polyalkylene derivs.
P-09-0653 | 2/15/2013 | 1/25/2013 | (G) Alkyl-dihydro-dialkyl-benzoxazine.
P-10-0305 | 2/18/2013 | 2/2/2013 | (S) Acetic acid ethenyl ester, polymer with ethane and methyl 2-methyl-2-propenoate.
P-11-0313 | 2/26/2013 | 2/7/2013 | (G) Hexanedioic acid, polymer with a-hydro-w-hydroxypoly [oxy (methyl-1,2-ethanediyl)], 1,1'-methylenebis[4-isocyanatobenzene], and dihydroxydialkyl ether, reaction products with dialkylcarbinol.
P-11-0391 | 2/26/2013 | 2/25/2013 | (G) Polyether phosphate.
P-11-0505 | 2/15/2013 | 2/8/2013 | (G) Polyester polymer.
P-12-0274 | 2/19/2013 | 12/5/2012 | (G) Polyisocyanate adduct.
P-12-0370 | 2/16/2013 | 1/19/2013 | (G) Phenyl silsesquioxane copolymer.
P-12-0379 | 2/13/2013 | 1/18/2013 | (G) Alkyl zinc halide.
P-12-0431 | 2/18/2013 | 1/27/2013 | (G) Phosphazene.
P-12-0478 | 3/5/2013 | 2/6/2013 | (G) Amine salted polyurethane.
P-12-0500 | 2/22/2013 | 2/7/2013 | (G) Hexanedioc acid, polymer with 2-(chloromethyl)oxirane polymer with 2-ethyl-2-(hydroxymethyl)-1,3-propanediol, alkanedioic acid, 4,4'-(1-methylethylidene)bis[phenol] and oxirane 2-propenoate, 2,2-dimethyl-1,3-propanediol, 1,2-ethanediamine, 1,6-hexanediol, 3-hydroxy-2-(hydroxymethyl)-2-methylpropanoic acid and 5-isocyanato1-1(isocyanatomethyl)-alkylcyclohexane, compound with N,N-diethylethanamine.
P-12-0512 | 2/18/2013 | 2/15/2013 | (G) Ultra violet curable polyurethane acrylate.
P-12-0538 | 2/12/2013 | 2/4/2013 | (S) 2-Propenoic acid, 2-cyano-, 1-methylheptyl ester.
P-12-0569 | 2/12/2013 | 2/5/2013 | (S) 1-(Bis(2-hydroxyethyl)amino)-3-chloro-2-propanol.
P-12-0574 | 2/25/2013 | 1/29/2013 | (G) Carbopolycycle-bis(diazonium), dihalo, chloride (1:2), reaction products with metal chloride, calcium carbonate, N-(2,4-dialkylphenyl)-oxoalkanamide, potassium 4-[dioxoalkylamino] substituted benzene (1:1) and sodium hydroxide.
P-13-0007 | 2/25/2013 | 2/8/2013 | (G) Acrylic acids, polymer with methacrylate esters, styrene and tert-bubenzene carboperoxoate-initiated, compounds with amine.
P-13-0009 | 2/22/2013 | 2/18/2013 | (G) Acrylate functional aliphatic isocyanate polymer blocked with hydroxy aromatic monomer.
P-13-0011 | 2/22/2013 | 2/20/2013 | (G) Hydroxy-functional epoxyamine polyglycol ester.
P-13-0012 | 2/21/2013 | 2/17/2013 | (S) 2-Octenenitrile,3,5,7-trimethyl-.
P-13-0017 | 2/25/2013 | 2/8/2013 | (G) Acrylated silicone polymer.
P-13-0018 | 3/1/2013 | 2/6/2013 | (G) Trisodium diethylene triaminepolycarboxylate.
P-13-0043 | 3/5/2013 | 2/14/2013 | (S) D-glucopyranose, oligomeric, decyl octyl glycosides, 3-(dodecyldimethylammonio)-2-hydroxypropyl ethers, chlorides, polymers with 1,3-dichloro-2-propanol.
P-13-0044 | 2/25/2013 | 1/30/2013 | (G) Fatty acid amine.
P-13-0045 | 2/25/2013 | 1/30/2013 | (G) Fatty acid amine.
P-13-0046 | 2/25/2013 | 1/28/2013 | (G) Fatty acid amine.
P-13-0048 | 2/25/2013 | 2/7/2013 | (G) Fatty acid amine.
P-13-0049 | 2/25/2013 | 2/8/2013 | (G) Fatty acids, polymer with acrylic acid, epoxy resin, methacrylate esters, styrene and vegetable-oil fatty acids, tert-bu benzenecarboperoxoate-initiated, compounds with amine.
P-13-0052 | 2/28/2013 | 2/15/2013 | (G) Cyclohexyl methacrylic acids, polymer with methacrylate esters, acrylic esters, methacrylate polyester polyol, styrene and tert-bu benzenecarboperoxoate-initiated, compounds with amine.
P-13-0054 | 3/4/2013 | 2/8/2013 | (S) 1-piperazine ethanamine, acetate (1:3) Ethanamine, 2,2′-oxybis-, acetate Morpholine, acetate (1:1).
P-13-0057 | 2/28/2013 | 2/15/2013 | (G) Acrylic polymer with 2-propenoic acid, 2-methyl-, butyl ester, methacrylic acid esters, acrylic acid esters and alkyl polyester ether acrylate.
P-13-0063 | 2/25/2013 | 1/30/2013 | (G) Fatty acid amine hydrochloride.
P-13-0064 | 2/25/2013 | 2/1/2013 | (G) Fatty acid amide hydrochloride.
P-13-0065 | 2/25/2013 | 1/30/2013 | (G) Fatty acid amide hydrochloride.
P-13-0066 | 2/25/2013 | 1/30/2013 | (G) Fatty acid amine hydrochloride.
P-13-0067 | 2/25/2013 | 2/7/2013 | (G) Fatty acid amide hydrochloride.
P-13-0068 | 2/25/2013 | 1/30/2013 | (G) Fatty acid amine hydrochloride.
P-13-0072 | 2/25/2013 | 2/1/2013 | (G) Fatty acid amide hydrochloride.
P-13-0073 | 2/25/2013 | 2/1/2013 | (G) Fatty acid amide hydrochloride.
P-13-0075 | 2/25/2013 | 2/1/2013 | (G) Fatty acid amide hydrochloride.
P-13-0076 | 2/25/2013 | 2/1/2013 | (G) Fatty acid amide hydrochloride.
P-13-0077 | 2/25/2013 | 2/7/2013 | (G) Fatty acid amide hydrochloride.
P-13-0078 | 3/1/2013 | 2/28/2013 | (G) Tertiary amine alkyl ether.
P-13-0084 | 2/27/2013 | 2/22/2013 | (G) Alkane diacid, polymer with 2,2-dimethyl-1,3-propanediol, 1,2-ethanediol, hexanedioic acid, alkanediol, .alpha.-hydro-.omega.-hydroxypoly[oxy(methyl-1,2-ethanediyl)], 1,3-isobenzofurandione, 1,1'-methylenebis[4-isocyanatobenzene] and 2,2'-oxybis[ethanol].
P-13-0090 | 2/12/2013 | 2/6/2013 | (G) Alkenenitrile, polymer with alkadiene, substituted alkyl-terminated, polymers with substituted carbonomocycles, alkoxy-terminated-substituted alkyl-alkadiene polymer, substituted carbomoncycle and halogen substituted carbomonocycle.
P-13-0096 | 3/7/2013 | 3/6/2013 | (G) Alkenoic acid, reaction product with alkylpolyol, polymers with substituted heteromonocycle.
P-13-0098 | 3/1/2013 | 2/27/2013 | (G) Modified polyarylamide salt.

If you are interested in information that is not included in these tables, you may contact EPA as described in Unit II. to access additional non-CBI information that may be available.

List of Subjects

Environmental protection, Chemicals, Hazardous substances, Imports, Notice of commencement, Premanufacturer, Reporting and recordkeeping requirements, Test marketing exemptions.

Dated: April 29, 2013.
Chandler Sirmons,
Acting Director, Information Management Division, Office of Pollution Prevention and Toxics.

[FR Doc. 2013-11507 Filed 5-14-13; 8:45 am]

BILLING CODE 6560-50-P